DEPARTMENT OF COMMERCE

National Oceanic and Atmospheric Administration

50 CFR Part 679

[Docket No. 000211040-0040-01; I.D. 021400E]

Fisheries of the Exclusive Economic Zone Off Alaska; Closures of Specified Groundfish Fisheries in the Bering Sea and Aleutian Islands

AGENCY: National Marine Fisheries Service (NMFS), National Oceanic and Atmospheric Administration (NOAA), Commerce.

ACTION: Closure.

SUMMARY: NMFS is closing specified groundfish fisheries in the Bering Sea and Aleutian Islands management area (BASI). This action is necessary to prevent exceeding the prohibited species bycatch allowances and directed fishing allowances specified for the 2000 BSAI groundfish fisheries.

DATES: Effective February 15, 2000, through 2400 hrs, A.l.t., December 31, 2000.

FOR FURTHER INFORMATION CONTACT: Mary Furuness, 907- 586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(d)(1)(i), if the Administrator, Alaska Region, NMFS (Regional Administrator) determines that any allocation or apportionment of a target species or “other species” category has been or will be reached, the Regional Administrator may establish a directed fishing allowance for that species or species group. If the Regional Administrator establishes a directed fishing allowance, and that allowance is or will be reached before the end of the fishing year, NMFS will prohibit directed fishing for that species or species group in the specified subarea or district (§ 697.20(d)(1)(iii)). Similarly, under § 679.21(e), if the Regional Administrator determines that a fishery category's bycatch allowance of halibut, red king crab, or C. bairdi Tanner crab for a specified area has been reached, the Regional Administrator will prohibit directed fishing for each species in the category in the specified area.

The Regional Administrator has determined that the following remaining allocation amounts will be necessary as incidental catch to support other anticipated groundfish fisheries for the 2000 fishing year:

Bogoslof District: 1,000 mt

Pollock

Aleutian Islands subarea:

Pollock: 2,000 mt

Sharpchin/northern rockfish 4,764 mt

Shortraker/rougheye rockfish 819 mt

“Other rockfish” 583 mt

Bering Sea subarea:

Pacific ocean perch 2,210 mt

“Other rockfish” 314 mt

“Other red rockfish” 1657 mt

Consequently, in accordance with § 679.20(d)(1)(i), the Regional Administrator establishes the directed fishing allowances for the listed species or species groups as zero.

Therefore, in accordance with § 679.20(d)(1)(iii) NMFS is prohibiting directed fishing for these species in the specified areas and these closures will remain in effect through 2400 hrs, Alaska local time (A.l.t), December 31, 2000.

In addition, the BSAI, Zone 1, annual red king crab allowance specified for the trawl rockfish fishery (§ 679.21(e)(3)(iv)(D)) is 0 mt and the BSAI first seasonal halibut bycatch allowance specified for the trawl rockfish is 0 mt. The BSAI annual halibut bycatch allowance specified for the trawl Greenland turbot/arrowtooth flounder/sablefish fishery categories, (§ 679.21(e)(3)(iv)(C)) is 0 mt. Therefore, in accordance with § 679.21(e)(7)(ii) and (v), NMFS is prohibiting directed fishing for rockfish by vessels using trawl gear in Zone 1 of the BSAI, directed fishing for rockfish by vessels using trawl gear in the entire BSAI and directed fishing for Greenland turbot/arrowtooth flounder/sablefish by vessels using trawl gear in the BSAI. These closures will remain in effect through 2400 hrs, A.l.t., December 31, 2000, for directed fishing for Greenland turbot/arrowtooth flounder/sablefish by vessels using trawl gear in the BSAI, and for directed fishing for rockfish by vessels using trawl gear in Zone 1 in the BSAI, and the 1200 hrs, A.l.t., July 4, 2000, for directed fishing for rockfish by vessels using trawl gear in the entire BSAI.

Under authority of the interim 2000 harvest specifications (65 FR 60, January 3, 2000), NMFS closed directed fishing for Atka mackerel for gears other than jig in the Eastern Aleutian District and the Bering Sea subarea of the BSAI effective 1200 hrs, A.l.t., January 29, 2000, through 2400 hrs, A.l.t., September 1, 2000 (65 FR 4893, February 2, 2000); directed fishing for pollock by vessels, not participating in cooperatives, greater than 99 ft (30.2 m) LOA catching pollock for processing by the inshore component in the SCA of the BSAI effective 12 noon, A.l.t., January 30, 2000, until 1200 hrs, A.l.t., April 1, 2000 (65 FR 5284, February 3, 2000); and prohibited trawling within Steller sea lion critical habitat in the Central Aleutian District of the BSAI, effective 12 noon, A.l.t., February 10, 2000, until the directed fishery for Atka mackerel closes within the entire Central Aleutian District (65 FR xxxx, February x, 2000). The amount of available TAC remaining for these fisheries under the final 2000 harvest specifications for groundfish, following the closures under the interim 2000 harvest specifications for groundfish, will be taken as incidental catch in directed fishing for other species. Thus, these closures remain effective under authority of final 2000 harvest specifications.

These closures supersede the closures announced in the interim 2000 harvest specifications (65 FR 60, January 3, 2000). While these closures are in effect, the maximum retainable bycatch amounts at § 679.20(e) and (f) apply at any time during a fishing trip. These closures to directed fishing are in addition to closures and prohibitions found in regulations at 50 CFR part 679. Refer to § 679.2 for definitions of areas. In the BSAI, “Other rockfish” includes Sebastes and Sebastolobus species except for Pacific ocean perch, shortraker, rougheye, sharpchin, and northern rockfish.

Classification

This action is required by § 679.20 and § 679.21 and is exempt from review under E.O. 12866.

This action responds to the TAC limitations and other restrictions on the fisheries established in the Final 2000 Harvest Specification for Groundfish for the BSAI. It must be implemented immediately to prevent overharvesting the 2000 TAC of several groundfish species in the BSAI. A delay in the effective date is impracticable and contrary to the public interest. The fleet is currently harvesting groundfish, and further delay would only result in overharvest. NMFS finds for good cause that the implementation of this action should not be delayed for 30 days. Accordingly, under 5 U.S.C. 553(d), a delay in the effective date is hereby waived.

Authority: (16 U.S.C. 1801 et seq.)

Dated: February 14, 2000.
Bruce C. Morehead,
Acting Director, Office of Sustainable Fisheries, National Marine Fisheries Service.

[FR Doc. 00-3911 Filed 2-15-00; 2:50 pm]

BILLING CODE 3510-22-M